DEPARTMENT OF LABOR

Employment and Training Administration

[TA-W-51,118 and TA-W-51,118A]

Electrolux Home Products, Inc., Edison and Piscataway, NJ; Amended Certification Regarding Eligibility To Apply for Worker Adjustment Assistance

In accordance with section 223 of the Trade Act of 1974 (19 U.S.C. 2273) the Department Labor issued a Certification of Eligibility to Apply for Worker Adjustment Assistance on May 1, 2003, applicable to workers of Electrolux Home Products, Inc., Edison, New Jersey. The notice was published in the Federal Register on May 19, 2003 (68 FR 27107).

At the request of the petitioners, the Department reviewed the certification for workers of the subject firm. The workers were engaged in the production of home air conditioners.

New findings show that worker separations will occur at the Piscataway, New Jersey facility of the subject firm when the company permanently closes June 30, 2004. The administrative workers of the subject firm who were previously located in Edison, New Jersey, are now located in Piscataway, New Jersey.

Accordingly, the Department is amending the certification to cover workers at Electrolux Home Productions, Inc., Edison, New Jersey, now located in Piscataway, New Jersey.

The intent of the Department's certification is to include all workers of Electrolux Home Products, Inc. who were adversely affected by increased imports.

The amended notice applicable to TA-W-51,118 is hereby issued as follows:

All workers of Electrolux Home Products, Inc., Edison, New Jersey (TA-W-51,118) and Electrolux Home Products, Inc., Piscataway, New Jersey (TA-W-51,118A), who became totally or partially separated from employment on or after March 3, 2002, through May 1, 2005, are eligible to apply for adjustment assistance under Section 223 of the Trade Act of 1974.

Signed at Washington DC this 11th day of March 2004.
Richard Church,
Certifying Officer, Division of Trade Adjustment Assistance.

[FR Doc. 04-7173 Filed 3-30-04; 8:45 am]

BILLING CODE 4510-30-P